FEDERAL COMMUNICATIONS COMMISSION

47 CFR Parts 22 and 90

[WT Docket No. 02-55; FCC 04-168]

Improving Public Safety Communications in the 800 MHz Band

AGENCY: Federal Communications Commission.

ACTION: Final rule; announcement of effective date.

SUMMARY: This document announces that the information collection requirements adopted in the 800 MHz Report and Order are effective upon publication of this document in the Federal Register.

DATES: 47 CFR 22.972, 22.973, 90.674, 90.676, and 90.677, published at 68 FR 67823 (Nov. 22, 2004) are effective February 8, 2005.

FOR FURTHER INFORMATION CONTACT: John Evanoff, Esq., Public Safety and Critical Infrastructure Division, Wireless Telecommunications Bureau at (202) 418-0680 or via the Internet at jevanoff@fcc.gov. For additional information concerning the Paperwork Reduction Act information collection requirements, contact Judith B. Herman at (202) 418-0214.

SUPPLEMENTARY INFORMATION: A summary of the 800 MHz Report and Order was published in the Federal Register on November 22, 2004, 68 FR 67823. The 800 MHz Report and Order adopted rules designed to abate interference to public safety entities. The summary stated that with the exception of rules requiring OMB approval, the rules adopted in the 800 MHz Report and Order would become effective January 21, 2005. With regard to rules requiring OMB approval, the Commission stated it will publish a document in the Federal Register announcing the effective date of these rules. The information collection requirements in §§ 22.972, 22.973, 90.674, 90.675, 90.676 and 90.677 have been approved by OMB. In a separate document published in this issue, the Commission has announced that OMB has approved the information collection requirements adopted in the 800 MHz Report and Order. With publication of the instant document in the Federal Register, all rules adopted in the 800 MHz Report and Order are now effective.

Federal Communications Commission.
Marlene H. Dortch,
Secretary.

[FR Doc. 05-2421 Filed 2-7-05; 8:45 am]

BILLING CODE 6712-01-P